DEPARTMENT OF COMMERCE

International Trade Administration

The President's Export Council: Meeting of the President's Export Council

AGENCY: International Trade Administration, U.S. Department of Commerce.

ACTION: Notice of an open meeting.

SUMMARY: The President's Export Council will hold a meeting to discuss topics related to export expansion. The meeting will include discussion of trade priorities and initiatives, PEC subcommittee activity and proposed letters of recommendation to the President. The PEC was established on December 20, 1973, and reconstituted May 4, 1979, to advise the President on matters relating to U.S. trade. It was most recently renewed by Executive Order 13316.

DATES: July 19, 2006.

Time: TBD.

Location: TBD, Washington, DC. This program will be physically accessible to people with disabilities. Seating is limited and will be on a first come, first served basis. Requests for sign language interpretation, other auxiliary aids, or pre-registration, should be submitted no later than July 10, 2006, to J. Marc Chittum, President's Export Council, Room 4043, 1401 Constitution Avenue, NW., Washington, DC 20230, telephone (202) 482-1124, or e-mail Marc.Chittum@mail.doc.gov.

FOR FURTHER INFORMATION CONTACT: The President's Export Council Executive Secretariat, Room 4043, Washington, DC 20230, phone (202) 482-1124, or visit 1the PEC Web site, http://www.ita.doc.gov/td/pec.

Dated: June 26, 2006.
J. Marc Chittum,
Executive Secretary and Staff Director, President's Export Council.

[FR Doc. 06-5931 Filed 6-29-06; 8:45 am]

BILLING CODE 3510-DR-P